NATIONAL AERONAUTICS AND SPACE ADMINISTRATION

14 CFR Part 1204

[NASA Document No: NASA-23-054; NASA Docket No: NASA-2023-0003]

RIN 2700-AE70

Delegations and Designations; Correction

AGENCY: National Aeronautics and Space Administration.

ACTION: Direct final rule; correction.

SUMMARY: NASA published a document in the Federal Register on July 5, 2023, concerning Delegations and Designations. The document contained an error in amendatory instruction 2.a.

DATES: This correction is effective September 5, 2023. If adverse comments are received on the direct final rule published at 88 FR 42870, NASA will publish a timely withdrawal of the rule and this correction to the rule in the Federal Register.

FOR FURTHER INFORMATION CONTACT: Daniela Cruzado, 202-295-7589.

SUPPLEMENTARY INFORMATION:

Correction

In the Federal Register of July 5, 2023, in FR Doc. 2023-14042, published at 88 FR 42870, the following correction is made:

§ 1204.501 [Amended]

1. On page 42871, in the first column, correct amendatory instruction 2.a. for § 1204.501 to read: “a. In paragraph (a) introductory text, add the words “the Office of” before the word “Strategic” and remove the words “Integrated Asset Management” and add in their place the words “Facilities and Real Estate.”

Nanette Smith,
Team Lead, NASA Directives and Regulations.

[FR Doc. 2023-14794 Filed 7-12-23; 8:45 am]

BILLING CODE P